DEPARTMENT OF EDUCATION

[Docket No.: ED-2018-ICCD-0131]

Progress in International Reading Literacy Study (PIRLS 2021) Field Test Recruitment; ED-2018-ICCD-0131; Correction

AGENCY: National Center for Education Statistics (NCES), Department of Education (ED).

ACTION: Correction Notice.

SUMMARY: On February 12, 2019, the U.S. Department of Education published a 60-day comment period notice in the Federal Register with FR DOC# 2019-01954 seeking public comment for an information collection entitled, “Progress in International Reading Literacy Study (PIRLS 2021) Field Test Recruitment”. The comment period is 30 Days instead of 60 Days, and interested persons are invited to submit comments on or before March 14, 2019.

The PRA Coordinator, Information Collection Clearance Program, Information Management Branch, Office of the Chief Information Officer, hereby issues a correction notice as required by the Paperwork Reduction Act of 1995.

SUPPLEMENTARY INFORMATION: In the Federal Register of February 12, 2019, in FR Doc 2019-01954, on page 3424, in the second column, correct the DATES caption to read:

DATES: Interested persons are invited to submit comments on or before March 14, 2019.

Dated: February 12, 2019.
Stephanie Valentine,
PRA Coordinator, Information Collection Clearance Program, Information Management Branch, Office of the Chief Information Officer.

[FR Doc. 2019-02484 Filed 2-14-19; 8:45 am]

BILLING CODE 4000-01-P